NATIONAL AERONAUTICS AND SPACE ADMINISTRATION

[Notice (13-053)]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: May 20, 2013.

FOR FURTHER INFORMATION CONTACT: Robert H. Earp, III, Patent Attorney, Glenn Research Center at Lewis Field, Code 21-14, Cleveland, OH 44135; telephone (216) 433-5754; fax (216) 433-6790.

NASA Case No.: LEW-18789-1: Method to Increase Performance of Foil Bearings Through Passive Thermal Management;

NASA Case No.: LEW-18636-2: A Source Coupled N Channel JFET Based Digital Logic Gate Structure Using Resistive Level Shifters and Having Direct Application to High Temperature Silicon Carbide Electronics;

NASA Case No.: LEW-18789-PCT: Method to Increase Performance of Foil Bearings Through Passive Thermal Management;

NASA Case No.: LEW-18942-1: Adaptive Phase Delay Generator;

NASA Case No.: LEW-18887-1: Fuzzy Neuron: Method and Hardware Realization;

NASA Case No.: LEW-18816-1: High Speed Edge Detecting Circuit for Use with Linear Image Sensor;

NASA Case No.: LEW-18717-2: A Novel Wideband GaN MMIC Distributed Amplifier Based Microwave Power Module for Space Communications, Navigation, and Radar;

NASA Case No.: LEW-18594-2: Thermomechanical Methodology for Stabilizing Shape Memory Alloy (SMA) Response;

NASA Case No.: LEW-18768-1: Processing of Nanosensors Using a Sacrificial Template Approach.

Sumara M. Thompson-King,
Deputy General Counsel.

[FR Doc. 2013-11941 Filed 5-17-13; 8:45 am]

BILLING CODE 7510-13-P